DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236, as detailed below.

Docket Number FRA-2009-0040

Applicant: Western New York & Pennsylvania Railroad, LLC, Mr. Carl P. Belke, President and Chief Operating Officer, 3146 Constitution Avenue, Olean, New York 14760.

The Western New York & Pennsylvania Railroad, LLC (WNYP) seeks approval of the proposed discontinuance and removal of signal systems on three sections of the Buffalo Line between North Driftwood, Pennsylvania, and Machias, New York. The three sections are:

1. The discontinuance and removal of the Block Signal System, Interlocking and Traffic Control System between Machias (MP BR44.5) and CP North Olean (MP BR66.4).

2. The discontinuance and removal of the Block Signal System, Interlocking and Traffic Control System between CP-South Olean (MP BR 73.0 and CP-Kean (MP BR97.0).

3. The discontinuance and removal of the Block Signal System, Interlocking and Traffic Control System between CP-Kean (MP BR97.0) and North Driftwood (MP BR 134.0).

The reason given for the proposed changes is the low traffic density on all three sections.

Any interested party desiring to protest the granting of an application shall set forth specifically the grounds upon which the protest is made, and include a concise statement of the interest of the party in the proceeding. Additionally, one copy of the protest shall be furnished to the applicant at the address listed above.

FRA expects to be able to determine these matters without an oral hearing. However, if a specific request for an oral hearing is accompanied by a showing that the party is unable to adequately present his or her position by written statements, an application may be set for public hearing.

All communications concerning these proceedings should identify the appropriate docket number (e.g., Waiver Petition Docket Number FRA-2009-0040) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on May 13, 2009.
Grady C. Cothen, Jr.,
Deputy Associate Administrator for Safety Standards and Program Development.

[FR Doc. E9-11592 Filed 5-18-09; 8:45 am]

BILLING CODE 4910-06-P